DEPARTMENT OF ENERGY

Federal Energy Regulatory Commission

Combined Notice of Filings #1

Take notice that the Commission received the following electric rate filings:

Docket Numbers: ER20-1298-006.

Applicants: Midcontinent Independent System Operator, Inc.

Description: Compliance filing: 2024-02-23_MISO TO's Order 864 Compliance to be effective 1/27/2020.

Filed Date: 2/23/24.

Accession Number: 20240223-5054.

Comment Date: 5 p.m. ET 3/15/24.

Docket Numbers: ER22-2201-002.

Applicants: Delmarva Power & Light Company, PJM Interconnection, L.L.C.

Description: Compliance filing: Delmarva Power & Light Company submits tariff filing per 35: Delmarva Power & Light Compliance Filing in ER22-2201 to be effective 9/1/2022.

Filed Date: 2/23/24.

Accession Number: 20240223-5106.

Comment Date: 5 p.m. ET 3/15/24.

Docket Numbers: ER24-1306-000.

Applicants: Windy Flats Partners, LLC.

Description: Baseline eTariff Filing: Windy Flats Filing to be effective 4/22/2024.

Filed Date: 2/23/24.

Accession Number: 20240223-5000.

Comment Date: 5 p.m. ET 3/15/24.

Docket Numbers: ER24-1307-000.

Applicants: Glover Creek Solar, LLC.

Description: Baseline eTariff Filing: Reactive Power Compensation Baseline to be effective 4/12/2024.

Filed Date: 2/23/24.

Accession Number: 20240223-5039.

Comment Date: 5 p.m. ET 3/15/24.

Docket Numbers: ER24-1308-000.

Applicants: American Electric Power Service Corporation, PJM Interconnection, L.L.C.

Description: § 205(d) Rate Filing: American Electric Power Service Corporation submits tariff filing per 35.13(a)(2)(iii: AEP submits Amended Billing Agent Agreement, SA No. 5677 to be effective 5/1/2024.

Filed Date: 2/23/24.

Accession Number: 20240223-5052.

Comment Date: 5 p.m. ET 3/15/24.

Docket Numbers: ER24-1309-000.

Applicants: El Sol Energy Storage LLC.

Description: § 205(d) Rate Filing: Revised Market-Based Rate Tariff Filing to be effective 4/24/2024.

Filed Date: 2/23/24.

Accession Number: 20240223-5062.

Comment Date: 5 p.m. ET 3/15/24.

Docket Numbers: ER24-1310-000.

Applicants: Hardin Solar Energy II LLC.

Description: § 205(d) Rate Filing: Revised Market-Based Rate Tariff Filing to be effective 4/24/2024.

Filed Date: 2/23/24.

Accession Number: 20240223-5064.

Comment Date: 5 p.m. ET 3/15/24.

Docket Numbers: ER24-1311-000.

Applicants: Walnut Bend Solar LLC.

Description: § 205(d) Rate Filing: Revised Market-Based Rate Tariff Filing to be effective 4/24/2024.

Filed Date: 2/23/24.

Accession Number: 20240223-5065.

Comment Date: 5 p.m. ET 3/15/24.

Docket Numbers: ER24-1312-000.

Applicants: New York Independent System Operator, Inc.

Description: § 205(d) Rate Filing: NYISO 205: LGIA Holtsville Energy Storage Project SA2836 (CEII) to be effective 2/8/2024.

Filed Date: 2/23/24.

Accession Number: 20240223-5100.

Comment Date: 5 p.m. ET 3/15/24.

Docket Numbers: ER24-1313-000.

Applicants: Baltimore Gas and Electric Company, Delmarva Power & Light Company, PECO Energy Company, Potomac Electric Power Company, PJM Interconnection, L.L.C.

Description: § 205(d) Rate Filing: Baltimore Gas and Electric Company submits tariff filing per 35.13(a)(2)(iii: Request for Order Authorizing Abandoned Plant Incentive to be effective 4/24/2024.

Filed Date: 2/23/24.

Accession Number: 20240223-5113.

Comment Date: 5 p.m. ET 3/15/24.

Docket Numbers: ER24-1314-000.

Applicants: Tri-State Generation and Transmission Association, Inc.

Description: Tariff Amendment: Notice of Cancellation of United Power Rate Schedules to be effective 12/31/9998.

Filed Date: 2/23/24.

Accession Number: 20240223-5127.

Comment Date: 5 p.m. ET 3/15/24.

Docket Numbers: ER24-1315-000.

Applicants: Tri-State Generation and Transmission Association, Inc.

Description: Tariff Amendment: Notice of Cancellation of Rate Schedule FERC No. 176 to be effective 12/31/9998.

Filed Date: 2/23/24.

Accession Number: 20240223-5128.

Comment Date: 5 p.m. ET 3/15/24.

Docket Numbers: ER24-1316-000.

Applicants: Duke Energy Carolinas, LLC.

Description: § 205(d) Rate Filing: DEC-DEC Surplus Interconnection Related Agreements to be effective 2/1/2024.

Filed Date: 2/23/24.

Accession Number: 20240223-5135.

Comment Date: 5 p.m. ET 3/15/24.

Docket Numbers: ER24-1317-000.

Applicants: Southwest Power Pool, Inc.

Description: § 205(d) Rate Filing: Revisions to Att AA to Implement ELCC and PBA Methodology to be effective 10/1/2025.

Filed Date: 2/23/24.

Accession Number: 20240223-5157.

Comment Date: 5 p.m. ET 3/15/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: February 23, 2024.
Debbie-Anne A. Reese,
Acting Secretary.

[FR Doc. 2024-04267 Filed 2-28-24; 8:45 am]

BILLING CODE 6717-01-P